DEPARTMENT OF STATE

[Public Notice: 11822]

30-Day Notice of Proposed Information Collection: Nonimmigrant Visa Application

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to September 26, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument, and supporting documents to Tonya Whigham, who may be reached at (202) 485-7586 or PRA_BurdenComments@state.gov.

SUPPLEMENTARY INFORMATION:

• Title of Information Collection: Nonimmigrant Visa Application; Online Nonimmigrant Visa Application.

• OMB Control Number: 1405-0182.

• Type of Request: Revision of a Currently Approved Collection.

• Originating Office: Bureau of Consular Affairs, Visa Services (CA/VO).

• Form Number: DS-156; DS-160.

• Respondents: Nonimmigrant Visa Applicants; Individuals Seeking Boarding Foils for Purposes of Parole.

• Estimated Number of Respondents: 11,095,302.

• Estimated Number of Responses: 11,095,302.

• Average Time per Response: 90 minutes.

• Total Estimated Burden Time: 16,642,953 hours.

• Frequency: Once per respondent's application for a nonimmigrant visa; once per respondent's request for a boarding foil.

• Obligation to respond: Required to Obtain Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-160 and DS-156 collect biographical and other information from individuals seeking a nonimmigrant visa or individuals seeking a boarding foil for purposes of traveling to the United States to seek parole from the Department of Homeland Security. The consular officer uses the information collected to elicit information necessary to determine an applicant's eligibility for a nonimmigrant visa. The consular officer uses the information collected on the form to screen individuals seeking a boarding foil for purposes of obtaining parole pursuant to an agreement between the Department of State and the Department of Homeland Security. Most respondents use the DS-160; however, posts may authorize an individual to use the paper-based DS-156 in limited circumstances as outlined below.

Methodology

Respondents submit the DS-160 electronically over an encrypted connection to the Department via the internet. The respondent will be instructed to print the confirmation page containing bar code record locators, which the consular officer will use to the locate the form during processing.

The DS-156 is the paper-based version of the DS-160. In order to obtain a copy of the DS-156, an individual must contact the Embassy or consulate at which they are applying and request a copy. A consular officer may allow an individual to submit the DS-156 in the following limited circumstances when the DS-160 cannot be accessed and the:

• Respondent has an urgent medical or humanitarian travel need, and the consular officer has received explicit permission from the Visa Office to accept form DS-156;

• Respondent is a student or exchange visitor who must leave immediately in order to arrive on time for his/her course and the consular officer has explicit permission from the Visa Office to accept form DS-156;

• Respondent is a diplomatic or official traveler with urgent government business and form DS-160 has been unavailable for more than four hours; or

• Form DS-160 has been unavailable for more than three days and the officer receives explicit permission from the Visa Office.

Julie M. Stufft,
Deputy Assistant Secretary, Bureau of Consular Affairs, Department of State.

[FR Doc. 2022-18324 Filed 8-24-22; 8:45 am]

BILLING CODE 4710-06-P